DEPARTMENT OF ENERGY

Federal Energy Regulatory Commission

Notice of Effectiveness of Exempt Wholesale Generator Status

FTS Project Owner 1, LLC | EG16-26-000
FTS Master Tenant 1, LLC | EG16-27-000
Javelina Interconnection, LLC | EG16-28-000
Avalon Solar Partners II LLC | EG16-29-000
Goal Line L.P | EG16-30-000
Voyager Wind I, LLC | EG16-31-000
Pasadena Cogen, LLC | EG16-32-000
Wind Service Sp. z.o.o. | FC16-1-000

Take notice that during the month of February 2016, the status of the above-captioned entities as Exempt Wholesale Generators or Foreign Utility Companies became effective by operation of the Commission's regulations. 18 CFR 366.7(a).

Dated: March 30, 2016.
Nathaniel J. Davis, Sr.,
Deputy Secretary.

[FR Doc. 2016-07723 Filed 4-4-16; 8:45 am]

BILLING CODE 6717-01-P